ENVIRONMENTAL PROTECTION AGENCY

[ER-FRL-8986-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090349, ERP No. D-SFW-K91018-CA, Hatchery and Stocking Program Operation of 14 Trout Hatcheries and the Mad River Hatchery for the Anadromous Steelhead, Federal Funding, California Department of Fish and Game, CA.

Summary: EPA expressed environmental concerns about wetland impacts, and requested additional information on monitoring, aquatic toxicity, and ammonia toxicity. Rating EC2.

EIS No. 20090369, ERP No. D-USA-G11052-LA, Joint Readiness Training Center and Fort Polk Land Acquisition Program, Purchase and Lease Lands for Training and Management Activities, in the Parishes of Vernon, Sabine, Natchitoches, LA.

Summary: While EPA has no objections to the proposed action, EPA did request clarification of wetland issues. Rating LO.

EIS No. 20090377, ERP No. D-BOP-F81022-00,Criminal Alien Requirement 9 Project, Proposal to Contract with one or more Private Contractors to House up to 2,500 Federal, Low-Security, Adult Male, Non-U.S. Citizen, Criminal Aliens at Contractor Owned and Operated Correctional Facilities, Located in Baldwin, MI and/or Lake City, FL.

Summary: EPA expressed environmental concerns about wastewater management impacts. Rating EC2.

EIS No. 20090385, ERP No. DS-TVA-A06090-AL,Bellefonte Site Single Nuclear Unit Project, Proposes to Complete or Construct and Operate a Single 1,100-1,200 MW Nuclear Generation Unit, Jackson County, AL.

Summary: EPA expressed environmental concerns about air quality, wetland, and radiological impacts. Rating EC2.

Final EISs

EIS No. 20090389, ERP No. F-AFS-K65370-CA,Beaverslide Timber Sale and Fuel Treatment Project, Proposing to Harvest Commercial Timber and Treat Hazardous Fuels, Six Rivers National Forest, Mad River Ranger District, Trinity County, CA.

Summary: EPA does not object to the proposed project.

EIS No. 20090391, ERP No. F-AFS-K65359-CA, Salt Timber Harvest and Fuel Hazard Reduction Project, Proposing Vegetation Management in the Salt Creek Watershed, South Fork Management Unit, Hayfork Ranger District, Shasta-Trinity National Forest, Trinity County, CA.

Summary: EPA's previous asbestos concerns have been resolved; therefore, EPA does not object to the proposed action.

Dated: December 24, 2009.
Ken Mittelholtz,
Deputy Director, NEPA Compliance Division, Office of Federal Activities.

[FR Doc. E9-31053 Filed 12-30-09; 8:45 am]

BILLING CODE 6560-50-P